DEPARTMENT OF ENERGY

Federal Energy Regulatory Commission

[Project No. 14152-000]

Reliable Storage 1 LLC; Notice of Preliminary Permit Application Accepted for Filing and Soliciting Comments, Motions To Intervene, and Competing Applications

On March 25, 2011, Reliable Storage 1 LLC filed an application, pursuant to section 4(f) of the Federal Power Act, proposing to study the feasibility of hydropower near the town of Monterey, in Putnam County, Tennessee. The sole purpose of a preliminary permit, if issued, is to grant the permit holder priority to file a license application during the permit term. A preliminary permit does not authorize the permit holder to perform any land-disturbing activities or otherwise enter upon lands or waters owned by others without the owners' express permission.

The proposed pumped storage project would consist of the following: (1) A 70-foot-high, 7,500-foot-long earth embankment dam; (2) an upper reservoir with a surface area of 100 acres and an 7,100 acre-foot storage capacity; (3) a 120-foot-high, 920-foot-long earth embankment dam creating; (4) a lower reservoir with a surface area of 220 acres and an 7,300 acre-foot storage capacity; (5) one 30-foot-diameter, 3,200-foot-long penstock; (6) a bifurcation to three penstocks each 16-foot-diameter, and 100-foot-long; (7) an underground powerhouse/pumping station containing three pump/generating units with a total generating capacity of 600 megawatts; (8) a 30-foot-diameter, 700-foot-long tailrace tunnel; (9) a 24-foot-diameter, 2,000-foot-long access tunnel; (10) a substation; (11) a 1.4-mile-long, 500 kV transmission line to an existing distribution line; and (12) a 6,300-foot-long access road. The proposed project would have an average annual generation of 1,500,000 megawatt-hours (MWh), which would be sold to a local utility.

Applicant Contact: Mr. Daniel R. Irvin, Free Flow Power Corporation, 239 Causeway Street Suite 300, Boston MA 01244; phone (978) 252-7631.

FERC Contact: Michael Spencer, (202) 502-6093.

Deadline for filing comments, motions to intervene, competing applications (without notices of intent), or notices of intent to file competing applications: 60 days from the issuance of this notice. Competing applications and notices of intent must meet the requirements of 18 CFR 4.36. Comments, motions to intervene, notices of intent, and competing applications may be filed electronically via the Internet. See 18 CFR 385.2001(a)(1)(iii) and the instructions on the Commission's Web site http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov; call toll-free at (866) 208-3676; or, for TTY, contact (202) 502-8659. Although the Commission strongly encourages electronic filing, documents may also be paper-filed. To paper-file, mail an original and seven copies to: Kimberly D. Bose, Secretary, Federal Energy Regulatory Commission, 888 First Street NE., Washington, DC 20426.

More information about this project, including a copy of the application, can be viewed or printed on the “eLibrary” link of the Commission's Web site at http://www.ferc.gov/docs-filing/elibrary.asp. Enter the docket number (P-14152-000) in the docket number field to access the document. For assistance, contact FERC Online Support.

Dated: February 10, 2012.
Kimberly D. Bose,
Secretary.

[FR Doc. 2012-3661 Filed 2-15-12; 8:45 am]

BILLING CODE 6717-01-P